DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will meet December 14-15, 2006, in Washington, DC. On December 14, the Board will tour National Park sites in the National Capital Region and will be briefed by park officials regarding environmental, education and partnership programs. The Board will convene its business meeting on December 15 at 8:30 a.m., EST, at the Jurys Washington Hotel, 1500 New Hampshire Avenue, NW., Washington, DC 20036, telephone 202-483-6000. The Board will be addressed by National Park Service Director Mary Bomar and will receive the reports of its Committee on Health and Recreation, Committee on Philanthropy, Education Committee, National Landmarks Committee, National Parks Science Committee, and Partnerships Committee. The business meeting will be adjourned at 5 p.m. National Historic Landmark and National Natural Landmark matters will be considered during the afternoon session.

Other officials of the National Park Service and the Department of the Interior may address the Board, and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board also may permit attendees to address the Board, but may restrict the length of the presentations, as necessary to allow the Board to complete its agenda within the allotted time.

Anyone who wishes further information concerning the meeting or who wishes to submit a written statement may contact Ms. Jennifer Lee, Office of the Director, National Park Service; 1849 C Street, NW., Room 3147; Washington, DC 20240; telephone 202-219-1689.

Draft minutes of the meeting will be available for public inspection about 12 weeks after the meeting, in room 7252, Main Interior Building, 1849 C Street, NW., Washington, DC.

Dated: November 17, 2006.
Bernard Fagan,
Deputy Chief, Office of Policy.

[FR Doc. E6-20136 Filed 11-27-06; 8:45 am]

BILLING CODE 4310-EE-P